DEPARTMENT OF THE INTERIOR

Office of the Secretary

[22XD4523WS/DWSN0000.000000/DS61500000/DP.61501]

Invasive Species Advisory Committee; Request for Nominations

AGENCY: Office of the Secretary, Interior.

ACTION: Notice of request for nominations.

SUMMARY: The U.S. Department of the Interior, on behalf of the interdepartmental National Invasive Species Council (NISC), proposes to appoint new members to the Invasive Species Advisory Committee (ISAC). The Secretary of the Interior, acting as administrative lead, is requesting nominations for qualified persons to serve as members of the ISAC.

DATES: Nominations must be received by March 28, 2022.

ADDRESSES: Electronic nomination packages are preferred and should be sent to invasive_species@ios.doi.gov. As necessary, hard copy nominations can be sent to Stanley W. Burgiel, Executive Director, National Invasive Species Council (OS/NISC), Regular/Express Mail: Department of the Interior, 1849 C Street NW (Mailstop 3530), Washington, DC 20240.

FOR FURTHER INFORMATION CONTACT: Kelsey Brantley, NISC Operations Director, at (202) 208-4122, or by email at Kelsey_Brantley@ios.doi.gov.

SUPPLEMENTARY INFORMATION:

Advisory Committee Scope and Objectives

Executive Order (E.O.) 13112 authorized the National Invasive Species Council (NISC) to provide interdepartmental coordination, planning, and leadership for the Federal Government on the prevention, eradication, and control of invasive species. This authorization was reiterated in E.O. 13751. NISC is currently comprised of the senior-most leadership of twelve Federal Departments/Agencies and four Executive Offices of the President. The Co-chairs of NISC are the Secretaries of the Interior, Agriculture, and Commerce.

NISC provides high-level interdepartmental coordination of Federal invasive species actions and works with other Federal and non-Federal groups to address invasive species issues at the national level. NISC duties, consistent with E.O. 13751, are to provide the vision and national leadership necessary to coordinate, sustain, and expand federal efforts to safeguard the interests of the United States through the prevention, eradication, and control of invasive species, and through the restoration of ecosystems and other assets impacted by invasive species. These duties and work priorities are further identified and outlined in NISC's annual Work Plans.

The Invasive Species Advisory Committee (ISAC) advises NISC. ISAC is chartered under the Federal Advisory Committee Act (FACA; 5 U.S.C. appendix 2). At the request of NISC, ISAC provides advice to NISC members on topics related to NISC's aforementioned duties, as well as emerging issues prioritized by the Administration. As a multi-stakeholder advisory committee, ISAC is intended to play a key role in recommending plans and actions to be taken in different sectors, geographies, and/or scales to accomplish the activities set forth in NISC Work Plans. It is hoped that, collectively, ISAC will represent the views of the broad range of stakeholders, communities, and individuals knowledgeable of and affected by invasive species. NISC is requesting nominations for individuals to serve on the ISAC.

Membership Criteria: Prospective members of ISAC must have knowledge in the prevention, eradication, and/or control of invasive species, as well as demonstrate a high degree of capacity for: Advising individuals in leadership positions, teamwork, project management, tracking relevant Federal government programs and policy making procedures, and networking with and representing their peer-community of interest. ISAC members need not be scientists. Membership from a wide range of disciplines and professional sectors is encouraged.

At this time, we are particularly interested in applications from representatives of: Non-federal government agencies (e.g., state, territorial, tribal, local); academia, research institutions, and scientific societies; the private sector and industry/trade associations; conservation and land management organizations; landowners, farmers, ranchers, foresters, and other resource users; public health specialists; education and outreach specialists; regional organizations; and citizen scientists, recreationists, and other public interest groups. Additionally, ISAC membership will include one representative from each of the following organizations, serving in a non-voting ex officio capacity: The Association of Fish and Wildlife Agencies (AFWA); the National Association of Conservation Districts (NACD); the National Association of State Departments of Agriculture (NASDA); the National Plant Board (NPB); the Native American Fish and Wildlife Society (NAFWS); and the North American Invasive Species Management Association (NAISMA).

After consultation with the other members of NISC, the Secretary of the Interior will appoint members to ISAC. Members will be selected based on their individual qualifications as detailed in their nomination package, as well as the overall need to achieve a balanced representation of viewpoints, subject matter expertise, regional knowledge, and communities of interest.

ISAC will hold approximately one or two in-person or virtual meetings per year. Between meetings, ISAC members are expected to participate in committee and subcommittee work via web-based meetings, teleconferences, and email exchanges. Members of the ISAC and its subcommittees serve without pay. However, while away from their homes or regular places of business in the performance of services of the ISAC, members may be reimbursed for travel expenses, including per diem in lieu of subsistence, in the same manner as persons employed intermittently in the government service, as authorized by section 5703 of title 5, United States Code. Employees of the Federal Government ARE NOT eligible for nomination or appointment to ISAC.

Individuals who are federally registered lobbyists are ineligible to serve on all FACA and non-FACA boards, committees, or councils in an individual capacity. The term “individual capacity” refers to individuals who are appointed to exercise their own individual best judgment on behalf of the government, such as when they are designated special Government employees, rather than being appointed to represent a particular interest.

As appropriate, certain ISAC members may be appointed as special Government employees (SGEs). Please be aware that applicants selected to serve as SGEs will be required, prior to appointment, to file a Confidential Financial Disclosure Report in order to avoid involvement in real or apparent conflicts of interest. You may find a copy of the Confidential Financial Disclosure Report at the following website: https://oge.gov/web/OGE.nsf/OGE%20Forms/2026049D943E0C34852585B6005A23CE/$FILE/OGE%20Form%20450%20Aug%202020_accessible.pdf?open.

Additionally, after appointment, members appointed as SGEs will be required to meet applicable financial disclosure and ethics training requirements. Please contact (202) 202-208-7960 or DOI_Ethics@sol.doi.gov with any questions about the ethics requirements for members appointed as SGEs.

How to Nominate: Nominations should include a resume that provides an adequate description of the nominee's qualifications, including information that will enable the Department of the Interior to make an informed decision regarding meeting the membership requirements of the ISAC and permit the Department of the Interior to contact a potential member. Nominees are strongly encouraged to include supporting letters from employers, associations, professional organizations, and/or other organizations that indicate support by a meaningful constituency for the nominee.

All nominations must designate which stakeholder group or community the nominee will represent (for stakeholder groups and required qualifications, please refer to Membership Criteria above). All required documents must be submitted in a single nomination package. Incomplete packages, or those with documents submitted piecemeal will not be considered.

Nominations must be received no later than March 28, 2022. Electronic nomination packages are preferred and should be sent to invasive_species@ios.doi.gov. As necessary, hard copy nominations can be sent to Stanley W. Burgiel, Executive Director, National Invasive Species Council (OS/NISC), Regular Mail: 1849 C Street NW (Mailstop 3530), Washington, DC 20240.

Authority: 5 U.S.C. appendix 2.

Stanley W. Burgiel,
Executive Director, National Invasive Species Council.

[FR Doc. 2022-01390 Filed 1-24-22; 8:45 am]

BILLING CODE 4334-63-P